FEDERAL COMMUNICATIONS COMMISSION

47 CFR Part 73

[DA 05-1302; MM Docket No. 99-331, RM-9848]

Radio Broadcasting Services; Bay City, College Station, Columbus, Edna, Garwood, Giddings, Palacios, and Sheridan, TX

AGENCY: Federal Communications Commission.

ACTION: Final rule; dismissal of petition for reconsideration.

SUMMARY: The Audio Division, at the request of Garwood Broadcasting Company, the proponent of a petition for reconsideration of the Report and Order in this proceeding, 68 FR 5584 (February 4, 2003), dismisses the petition for reconsideration and terminates the proceeding.

DATES: Effective June 20, 2005.

FOR FURTHER INFORMATION CONTACT: Deborah Dupont, Media Bureau, (202) 418-2180.

SUPPLEMENTARY INFORMATION: This is a synopsis of the Commission's Memorandun Opinion and Order, MM Docket No. 99-331, adopted May 4, 2005, and released May 6, 2005. The full text of this Commission decision is available for inspection and copying during normal business hours in the FCC Information Center, Portals II, 445 12th Street, SW., Room CY-A257, Washington, DC 20554. The complete text of this decision also may be purchased from the Commission's duplicating contractor, Best Copy and Printing, Inc., 445 12th Street, SW., Room CY-B402, Washington, DC 20554, (800) 378-3160, or via the company's Web site, http://www.bcpiweb.com. The Memorandum Opinion and Order is not subject to the Congressional Review Act, and therefore the Commission will not send a copy of it in a report to be sent to Congress and the Government Accountability Office, see U.S.C. 801(a)(1)(A).

Federal Communications Commission.
John A. Karousos,
Assistant Chief, Audio Division, Media Bureau.

[FR Doc. 05-10114 Filed 5-24-05; 8:45 am]

BILLING CODE 6712-01-P